DEPARTMENT OF COMMERCE

Foreign-Trade Zones Board

[B-36-2012]

Foreign-Trade Zone 92—Gulfport, MS Notification of Proposed Production Activity; Gulf Ship, LLC, (Shipbuilding), Gulfport, MS

The Mississippi Coast Foreign-Trade Zone, Inc., grantee of FTZ 92, submitted a notification of proposed production activity on behalf of Gulf Ship, LLC (Gulf Ship), located in Gulfport, Mississippi. The Gulf Ship facility is located within Site 3 of FTZ 92. The facility is used for the construction and repair of oceangoing vessels.

Production under FTZ procedures could exempt Gulf Ship from customs duty payments on foreign status components used in export production. On its domestic sales, Gulf Ship would be able to choose the duty rates during customs entry procedures that apply to oceangoing vessels (duty rate—free) for the foreign status inputs noted below. Customs duties also could possibly be deferred or reduced on foreign status production equipment.

Components and materials sourced from abroad include: marine engines, winches, steering gears, electric motors, generators, raceways, doors, tefrotex, floor coatings, rock wool, couplings, universal joints, bobbins, rubber seals, valves, man-holes, ladders, handrails, vibration control dampeners, oil booms, lighting equipment, controllers, electrical cabinets, bearings, heaters, transmission shafts, blades, and thruster parts (duty rate ranges from free to 7.0%).

Public comment is invited from interested parties. Submissions shall be addressed to the Board's Executive Secretary at the address below. The closing period for their receipt is June 25, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Pierre Duy at Pierre.Duy@trade.gov or (202) 482-1378.

Dated: May 10, 2012.
Andrew McGilvray,
Executive Secretary.

[FR Doc. 2012-11754 Filed 5-14-12; 8:45 am]

BILLING CODE P